DEPARTMENT OF COMMERCE

International Trade Administration

[A-570-943]

Oil Country Tubular Goods From the People's Republic of China: Final Results of Antidumping Duty Administrative Review; 2017-2018

AGENCY: Enforcement and Compliance, International Trade Administration, Department of Commerce.

SUMMARY: The Department of Commerce (Commerce) continues to find that none of the companies subject to this administrative review have established their entitlement to a separate rate during the May 1, 2017 through April 30, 2018 period of review (POR) and are, therefore, part of the China-wide entity.

DATES: Applicable July 5, 2019.

FOR FURTHER INFORMATION CONTACT: Kent Boydston or Brian Davis, AD/CVD Operations, Office VI, Enforcement and Compliance, International Trade Administration, U.S. Department of Commerce, 1401 Constitution Avenue NW, Washington, DC 20230; telephone: (202) 482-5649 or (202) 482-7924, respectively.

SUPPLEMENTARY INFORMATION:

Background

On March 15, 2019, Commerce published the Preliminary Results of the administrative review of the antidumping duty order on oil country tubular goods (OCTG) from the People's Republic of China (China).¹ The administrative review covers four producers/exporters of the subject merchandise, Baoshan Iron & Steel; Hengyang Steel Tube Group International Trading Inc.; Hubei Xinyegang Steel Co., Ltd.; and Hubei Xin Yegang Special Tube. We provided interested parties an opportunity to comment on the Preliminary Results. We received no comments. As such, these final results are unchanged from the Preliminary Results. Commerce conducted this review in accordance with section 751(a)(1)(B) of the Tariff Act of 1930, as amended (the Act).

¹ See Oil Country Tubular Goods from the People's Republic of China: Preliminary Results of Antidumping Duty Administrative Review; 2017-2018, 84 FR 9490 (March 15, 2019), and the accompanying Preliminary Decision Memorandum.

Scope of the Order

The scope of this order consists of certain OCTG, which are hollow steel products of circular cross-section, including oil well casing and tubing, of iron (other than cast iron) or steel (both carbon and alloy), whether seamless or welded, regardless of end finish (e.g., whether or not plain end, threaded, or threaded and coupled) whether or not conforming to API or non-API specifications, whether finished (including limited service OCTG products) or unfinished (including green tubes and limited service OCTG products), whether or not thread protectors are attached.

The merchandise subject to this order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The OCTG coupling stock covered by the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, and 7304.59.80.80.

For a complete description of the scope of the order, see the Preliminary Decision Memorandum.

Methodology

Commerce conducted this review in accordance with section 751(a)(1)(B) of the Act. In the Preliminary Results, Commerce found that the four companies for which a review was requested failed to provide separate rate applications or certifications.² Therefore, Commerce preliminarily determined that these four companies are part of the China-wide entity. We have not received any information since the issuance of the Preliminary Results that provides a basis for reconsidering this determination. For a full description of the methodology underlying our conclusions, see the Preliminary Decision Memorandum, available at http://enforcement.trade.gov/frn/.

² The four companies are: (1) Baoshan Iron & Steel; (2) Hengyang Steel Tube Group International Trading Inc.; (3) Hubei Xinyegang Steel Co., Ltd.; and (4) Hubei Xin Yegang Special Tube.

Final Results of Review

We have received no information or argument contradicting our preliminary finding; thus, we have made no changes to our preliminary analysis. Accordingly, no decision memorandum accompanies this Federal Register notice. For further details of the issues addressed in this proceeding, see the Preliminary Results.

Assessment Rates

Pursuant to section 751(a)(2)(C) of the Act and 19 CFR 351.212(b), Commerce has determined, and U.S. Customs and Border Protection (CBP) shall assess, antidumping duties on all appropriate entries of subject merchandise in accordance with the final results of this review. Commerce intends to issue assessment instructions to CBP 15 days after the publication date of the final results of this review. For those entities that are subject to this review that Commerce has determined are part of the China-wide entity (i.e., Baoshan Iron & Steel; Hengyang Steel Tube Group International Trading Inc.; Hubei Xinyegang Steel Co., Ltd.; and Hubei Xin Yegang Special Tube), we will instruct CBP to liquidate any appropriate entries at the China-wide rate of 99.14 percent.³

³ See Certain Oil Country Tubular Goods From the People's Republic of China: Amended Final Determination of Sales at Less Than Fair Value and Antidumping Duty Order, 75 FR 28551 (May 21, 2010).

Cash Deposit Requirements

The following cash deposit requirements will be effective upon publication of the final results of this administrative review for all shipments of the subject merchandise entered, or withdrawn from warehouse, for consumption on or after the publication date of the final results of this administrative review, as provided by section 751(a)(2)(C) of the Act: (1) For all China exporters of subject merchandise which have not been found to be entitled to a separate rate, the cash deposit rate will be that for the China-wide entity (i.e., 99.14 percent); (2) for previously investigated or reviewed China and non-China exporters which are not under review in this segment of the proceeding but received a separate rate in a previous segment, the cash deposit rate will continue to be the exporter-specific rate published for the most recently-completed period; and (3) for all non-China exporters of subject merchandise which have not received their own rate, the cash deposit rate will be the rate applicable to the China exporter(s) that supplied the non-China exporter. These cash deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as a final reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

This notice of the final results of this administrative review is issued and published in accordance with sections 751(a)(1) and 777(i)(1) of the Act, and 19 CFR 351.221(b)(5) and 19 CFR 351.213(h).

Dated: June 27, 2019.
Jeffrey I. Kessler,
Assistant Secretary for Enforcement and Compliance.

[FR Doc. 2019-14336 Filed 7-3-19; 8:45 am]

BILLING CODE 3510-DS-P